DEPARTMENT OF TRANSPORTATION

National Highway Traffic Safety Administration

49 CFR Part 571

[Docket No. NHTSA 2004-18813]

Federal Motor Vehicle Safety Standards; Occupant Crash Protection

AGENCY: National Highway Traffic Safety Administration (NHTSA), Department of Transportation (DOT).

ACTION: Denial of petition for rulemaking.

SUMMARY: On September 26, 2003, NHTSA received a petition for rulemaking from Mr. Warren Howard requesting that the agency amend Federal Motor Vehicle Safety Standard (FMVSS) No. 208, “Occupant crash protection,” to allow for “the installation and standard feature” of his patented device. The patented device would prevent the radio sound system of a vehicle from operating unless the safety belts are fastened. Based on the analysis of available information, NHTSA is denying the petition for rulemaking.

FOR FURTHER INFORMATION CONTACT: For non-legal issues: Mr. John Lee, Office of Crashworthiness Standards, NVS-112, National Highway Traffic Safety Administration, 400 Seventh Street, SW., Washington, DC 20590. Telephone (202) 366-2264. Fax: (202) 493-2290.

For legal issues: Mr. Chris Calamita, Office of Chief Counsel, NCC-112, National Highway Traffic Safety Administration, 400 Seventh Street, SW., Washington, DC 20590. Telephone: (202) 366-2992. Fax: (202) 366-3820.

SUPPLEMENTARY INFORMATION: On September 26, 2003, Mr. Warren Howard submitted a petition for rulemaking requesting that NHTSA amend S7.3 of Federal Motor Vehicle Safety Standard (FMVSS) No. 208, “Occupant crash protection,” to allow for “the installation and standard feature” of his patented device. The patented device would prevent the radio or sound system of a vehicle from emitting any sound or power unless the occupants of all designated seating positions have their seat belts fastened. According to the petitioner, the Audio System Seat Belt Safety Device would be installed in the seat and connected to the audio system of the vehicle. The system would sense when a person was seated and the audio system would not have power until the seat belt for that seated person was engaged. Once the seat belt was engaged, power would then be applied to the audio system. The petitioner further noted that this system could be installed on all seats within the same vehicle and not interfere with the audible and visual warning system required in FMVSS No. 208. The petitioner believed that such a device would encourage people to wear their safety belts and save thousands of lives each year, and billions of dollars in insurance costs.

NHTSA has denied petitions for rulemaking in the past that were very similar in nature to that of Mr. Howard's petition. On November 5, 1999 (64 FR 60625), the agency denied a petition for rulemaking submitted by Mr. Carl Nash and Mr. Donald Friedman. The petitioners requested an amendment to FMVSS No. 208 to “require effective belt use inducement.” The petitioners stated that the inducements could include, among other things, a disruption of electrical power to such “non-essential” accessories as the radio, tape or CD player, and air conditioning. The petitioners argued that a safety belt use inducement would have the potential to save a minimum of 7,000 additional lives per year. In denying the petition, the agency stated it considered whether the new requirements would (1) likely result in additional safety benefits, (2) be acceptable to the public, and (3) be within our statutory authority. NHTSA stated that none of the petitioners' recommended inducements met all of these criteria.

In response to the denial, Mr. Nash and Mr. Friedman resubmitted their petition request to the agency. The agency denied the second request in the preamble to the Advanced Air Bag Final Rule, published May 12, 2000 (65 FR 30680, 30733). The agency stated its belief that we do not have the statutory authority to require such devices; however we also stated that we would continue to monitor the level of public acceptance and effectiveness of systems that manufacturers are placing in their vehicles to encourage safety belt use. We stated that if it appeared that these systems were working, it might be appropriate to seek to have the 1974 amendment to the Motor Vehicle Safety Act, that prohibits NHTSA from requiring interlocks, either changed or repealed.

In the House Report, 107-108, to the Department of Transportation and Related Agencies Appropriations Act 2002 (Pub. L. 107-87), Congress directed a study to examine the potential benefits of technologies to increase safety belt use, determine how drivers view the acceptability of the technologies, and consider whether legislative or regulatory actions were necessary to enable their installation on passenger vehicles.¹ In response to this directive, NHTSA contracted with the Transportation Research Board of the National Academy of Sciences (NAS) to complete this study. Their report was published on October 14, 2003.²

¹ House of Representatives Report 107-108 Department of Transportation and Related Agencies Appropriation Bill, 2002, June 22, 2001.

² “Buckling Up, Technologies to Increase Seat Belt Use,” Special Report 278, Committee for the Safety Belt Technology Study, www.TRB.org.

Among their conclusions, the NAS report found that “entertainment interlocks” (e.g., devices that render the sound system inoperable until the driver buckles up) are “perceived to be effective,” but fewer than half of the respondents found them “acceptable.” The report also noted that some people might not experience an entertainment interlock (i.e., older people who do not use the radio, drivers on short trips, etc.), and it also noted that such interlocks could be circumvented (e.g., by installing an aftermarket stereo). The NAS study found that other less-intrusive technologies, such as non-interlock systems, present greater opportunities for increasing safety belt use without the negative public reaction of interlocks. For entertainment interlock systems, such as that provided by Mr. Howard, the NAS report concluded that they would be most effective for younger drivers and not very effective at increasing belt use among hard-core nonusers and other high-risk groups. NHTSA generally concurs with this assessment.

We note that a device that would disable a vehicle's radio or sound system if occupants are not belted is currently allowed to be installed in motor vehicles in addition to, but not in place of, the warning system required by S7.3 of FMVSS No. 208. Motor vehicle manufacturers may offer the device as optional or standard equipment at their discretion. In an April 11, 2003 letter to Mr. Howard, the agency stated that such a device may be offered either as an original equipment option or an aftermarket item, but it must be configured such that it can be differentiated from the warning system required by S7.3. A copy of this letter was included in Mr. Howard's petition. (See docket for this notice).

The agency has denied similar petitions for rulemaking on entertainment interlocks within the past five years. With regard to Mr. Howard's device, the agency has provided the petitioner with a legal interpretation letter that stated that the voluntary installation of his specific patented device discussed in this petition is permitted. Given the agency's lack of authority to mandate interlock systems as a means of compliance with FMVSS No. 208 and the conclusions of the NAS report regarding public acceptability and effectiveness of these systems, the agency concludes that there is no basis for further rulemaking action on this issue nor any basis for considering seeking authority to require these interlock systems. This completes the agency's review of the petition for rulemaking. Accordingly, the petition for rulemaking is denied.

Authority: 49 U.S.C. 322, 30111, 30115, 30117 and 30162; delegation of authority at 49 CFR 1.50.

Issued on: October 6, 2004.
Stephen R. Kratzke,
Associate Administrator for Rulemaking.

[FR Doc. 04-23079 Filed 10-13-04; 8:45 am]

BILLING CODE 4910-59-P